DEPARTMENT OF ENERGY

Federal Energy Regulatory Commission

[Docket No. P-1273-009]

Center Creek; Notice of the Draft Environmental Assessment as a Basis for Any Order Issued on the License Application

October 9, 2003.

Take notice that the draft environmental assessment issued on August 26, 2003, for Center Creek Hydroelectric Project FERC No. 1273-009 will serve as the final National Environmental Policy Act (NEPA) document and a basis for any license order on the application.

In accordance with the National Environmental Policy Act of 1969 and the Federal Energy Regulatory Commission's (Commission) regulations, 18 CFR Part 380 (Order No. 486, 52 F.R. 47897), the Office of Energy Projects has reviewed the application for license for the Center Creek Hydroelectric Project located on Center Creek, in Iron County, Utah, and prepared a draft Environmental Assessment (EA) for the project. The project occupies 21.43 acres of United States lands administered by the Bureau of Land Management.

The draft EA issued on August 26, 2003, contains Commission staff's analysis of the potential environmental impacts of the project and concludes that licensing the project, with appropriate environmental protective measures, would not constitute a major federal action that would significantly affect the quality of the human environment.

A copy of the draft EA is available for review at the Commission in the Public Reference Room or may be viewed on the Commission's Web site at www.ferc.gov using the “FERRIS” link. Enter the docket number excluding the last three digits in the docket number field to access the document. For assistance contact FERC Online Support at FERCOnlineSupport@ferc.gov or toll-free at (866) 208-3676, or for TTY, (202) 502-8659.

We received one comment from the U.S. Fish and Wildlife Service in support of our recommendation in the draft EA. Therefore the draft EA will serve as our final NEPA document and as a basis for any order issued on the license application.

For further information, contact Gaylord Hoisington at (202) 502-6032 or gaylord.hoisington@ferc.gov.

Magalie R. Salas,
Secretary.

[FR Doc. E3-00259 Filed 11-14-03; 8:45 am]

BILLING CODE 6717-01-P